DEPARTMENT OF LABOR

Employment and Training Administration

Proposed Information Collection Request Submitted for Public Comment and Recommendations; Prisoner Reentry Initiative (PRI) Reporting System

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, the reporting burden (time and financial resources) is minimized, the collection instruments are clearly understood, and the impact of collection requirements on respondents can be properly assessed. The Employment and Training Administration (ETA) is soliciting comments on the establishment of a reporting and recordkeeping system to support implementation of the Prisoner Reentry Initiative (PRI).

DATES: Submit comments on or before November 22, 2005.

ADDRESSES: Send comments to: Mr. Gregg Weltz, Program Manager, Office of Workforce Investment/Office of Youth Services, Employment and Training Administration, U.S. Department of Labor, 200 Constitution Avenue NW., Room N4459, Washington, DC 20210; telephone: (202) 693-3527 (this is not a toll-free number); fax: (202) 693-3861; e-mail: weltz.greg@dol.gov.

FOR FURTHER INFORMATION CONTACT: Mr. Gregg Weltz, Program Manager, Office of Workforce Investment/Office of Youth Services, Employment and Training Administration, U.S. Department of Labor, 200 Constitution Avenue NW., Room N4459, Washington, DC 20210; telephone: (202) 693-3527 (this is not a toll-free number); fax: (202) 693-3861; e-mail: weltz.greg@dol.gov.

Copies of the Paperwork Reduction Act Submission Package may be obtained directly at the Web site: http://www.doleta.gov/performance/guidance/ombcontrolnumber.cfm.

SUPPLEMENTARY INFORMATION:

I. Background

In applying for the Prisoner Reentry Initiative grants, Faith-based and Community Organization grantees agree to submit participant data and quarterly aggregate reports for individuals who receive services through PRI programs and their partnerships with One-Stop Centers, local Workforce Investment Boards, employment providers, the criminal justice system, and local housing authorities. The reports will include aggregate data on demographic characteristics, types of services received, placements, outcomes, and follow-up status. Specifically, they summarize data on participants who received employment and placement services, housing assistance, mentoring, and other services essential to reintegrating ex-offenders through PRI programs.

This is a request for approval to implement the reporting and recordkeeping requirements of the Prisoner Reentry Initiative through an ETA-provided, web-based Management Information System (MIS). In addition to reporting participant information and performance-related outcomes, PRI grantees must demonstrate their ability to establish effective partnerships with the criminal justice system, local Workforce Investment Boards, local housing authorities, and other partner agencies. They must also demonstrate the cost effectiveness of their projects. The MIS reporting and recordkeeping system incorporates each of these aspects necessary for program evaluation.

Five outcome measures will be used to measure success in the PRI grants: entered employment rate, employment retention rate, attainment of a degree or certificate, average six-month post-program earnings, and recidivism rate. Several of these conform to the common performance measures implemented across federal job training programs as of July 1, 2005. By standardizing the reporting and performance requirements of different programs, the common measures give ETA the ability to compare across programs the core goals of the workforce system—how many people entered jobs; how many stayed employed; and how many successfully completed an educational program. Although the common measures are an integral part of ETA's performance accountability system, these measures provide only part of the information necessary to effectively oversee the workforce investment system. ETA will also collect additional data from PRI grantees on program activities, participants, and outcomes that are necessary for program management and to convey full and accurate information on the performance of PRI programs to policymakers and stakeholders.

This request establishes a reporting and record-keeping system for a minimum level of information collection that is necessary to comply with Equal Opportunity requirements, to hold PRI grantees appropriately accountable for the Federal funds they receive, including common performance measures, and to allow the Department to fulfill its oversight and management responsibilities.

II. Desired Focus of Comments

Currently, the Department is soliciting comments concerning the proposed reporting and recordkeeping system for the PRI in order to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

Type of Review: New.

Agency: Department of Labor, Employment and Training Administration.

Title: Prisoner Reentry Initiative (PRI) Reporting System.

Office of Management and Budget (OMB) Number: 1205-0NEW.

Affected Public: Faith-based and Community Organization Grantees.

Cite/Reference: Workforce Investment Act of 1998 (Pub. L. 105-220) sections 172, 185, and 189.

Total Respondents: 30 grantees.

Frequency: Quarterly.

Estimated Total Burden Hours
Form/activity | Total respondents | Frequency | Total annual response | Average time per response (hours) | Total annual burden hours
Participant Data Collection | 30 | Continual | 6,250 | 1.8 | 11,250
Quarterly narrative progress report | 30 | Quarterly | 120 | 16 | 1,920
Quarterly performance report | 30 | Quarterly | 120 | 16 | 1,920
Totals | 30 |  | 6,490 |  | 15,090

Total Burden Cost (capital/startup): 0.

Total Burden Cost (operating/maintaining): 0.

Comments submitted in response to this notice will be summarized and/or included in the request for OMB approval of the information collection request; they will also become a matter of public record.

Signed in Washington, DC, on September 17, 2005.
Emily Stover DeRocco,
Assistant Secretary, Employment and Training Administration.

[FR Doc. 05-19046 Filed 9-22-05; 8:45 am]

BILLING CODE 4510-30-P